DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 27, 2001.

Interested persons are invited to submit written comments regarding the subject matter of the investigations to the Director, Division of Trade Adjustment Assistance, at the address shown below, not later than August 27, 2001.

The petitions filed in this case are available for inspection at the Office of the Director, Division of Trade Adjustment Assistance, Employment and Training Administration, U.S. Department of Labor, Room C-5311, 200 Constitution Avenue, NW., Washington, DC 20210.

Signed at Washington, DC this 9th day of July, 2001.
Edward A. Tomchick,
Director, Division of Trade Adjustment Assistance.

APPENDIX
[Petitions Instituted on 07/09/2001]
TA-W | Subject firm (petitioners) | Location | Date of petition | Product(s)
39,571A | Hartwell Industries (Comp) | Hartwell, GA | 06/25/2001 | Jackets and Shirts.
39,571 | Auburn Sportswear (Comp.) | Brookhaven, MS | 06/25/2001 | Jackets and Shirts.
39,572 | Owens-BriGam Medical Co (Comp) | Arden, NC | 06/28/2001 | Disposable Anesthesia & Respiratory.
39,573 | Cooper Wiring Devices (USWA) | Georgetown, SC | 06/27/2001 | Wiring Devices.
39,574 | SGL Carbon Group (UFCW) | Morganton, NC | 06/07/2001 | Graphite Electrodes & Specialty Graphite.
39,575 | J and L Specialty Prod. (USWA) | Louisville, OH | 06/18/2001 | Steel Grades.
39,576 | Serco Co. (The) (Wrks) | Buffalo, NY | 06/29/2001 | Loading Dock Equipment.
39,577 | Et Al Group, Inc. (UNITE) | New York, NY | 06/22/2001 | Ladies Dresses Day and Evening.
39,578 | McLaughlin Co. (UAW) | Petoskay, MI | 06/20/2001 | Cold Forming Headers.
39,579 | Newell Window Furnishings (Wrks) | Waco, TX | 06/24/2001 | Window Blinds and Slats.
39,580 | Elkay Manufacturing (Comp) | Lanark, IL | 06/11/2001 | Bottled Water Coolers.
39,581 | Ross Allen Design (Wrks) | Bean Station, TN | 06/21/2001 | Sofas and Chairs Upholstery.
39,582 | Mallinckrodt Medical (Wrks) | Plymouth, MN | 06/20/2001 | Specialized Medical Tools.
39,583 | Visteon Systems LLC (Comp) | Connersville, IN | 06/21/2001 | Radiators, Compressors, Evaporators.
39,584 | Laco Sportswear, Inc. (Comp) | Chattanooga, TN | 06/25/2001 | Sportswear.
39,585 | Bike Athletic Co/Kazmaier (Comp) | Mountain City, TN | 06/28/2001 | Men's & Ladies Athletic Wear.
39,586 | Moltech Power Systems (Comp) | El Paso, TX | 06/21/2001 | Rechargeable Batteries.
39,587 | Grote Industries LLC (Comp) | Madison, IN | 06/15/2001 | Electrical Wiring Harnesses.
39,588 | Motorola, Inc. (Comp) | Plantation, FL | 05/08/2001 | Radios and Printed Circuit Boards.
39,589 | Northwest Alloys, Inc. (Comp) | Addy, WA | 06/25/2001 | Pure Magnesium Metal Ingots.
39,590 | Lees Curtain Co., Inc. (Comp) | New York, NY | 06/22/2001 | Window Curtains.
39,591 | TRW Automotive (UAW) | Milford, MI | 06/19/2001 | Brake System Components.
39,592 | Viceroy Gold Corp. (Comp) | Searchlight, NV | 06/20/2001 | Gold.
39,593 | MuRata Electronics NA (Wrks) | State College, PA | 06/22/2001 | Ceramic Capacitors.
39,594 | Spectrum Control, Inc. (Wrks) | Elizabethtown, PA | 06/21/2001 | Microwaves.
39,595 | RHO Industries (UNITE) | Buffalo, NY | 06/22/2001 | Chestpiece Supplier.
39,596 | Quilt Gallery (Wrks) | Easley, SC | 06/20/2001 | Quilts, Comforters, Pillows.
39,597 | Adaptec, Inc. (Wrks) | Orlando, FL | 06/21/2001 | Electronics.
39,598 | Palliser Furniture Corp (Comp) | Troutman, NC | 06/21/2001 | Upholstered Leather Furniture.
39,599 | Dyna-Craft Industries (Wrks) | Apollo, PA | 06/21/2001 | Tooling Systems.
39,600 | General Electric Co. (IUE) | Fort Wayne, IN | 06/21/2001 | Permanent Magnetic & AC Motors.
39,601 | 3M, Inc. (Wrks) | Columbia, MO | 06/17/2001 | Printer Cartridge Circuits.
39,602 | Add Spirit, Inc. (Comp) | Twin City, GA | 06/21/2001 | Baby and Infant Apparel.
39,603 | ColemanCable, Inc. (Wrks) | McAllen, TX | 06/10/2001 | Car Floor.
39,604 | Doran Mills LLC (Wrks) | Shelby, NC | 06/20/2001 | Novelty Yarns.
39,605 | Kimble Glass, Inc. (AFGWU) | Vineland, NJ | 06/13/2001 | Culture Tubes.
39,606 | California Manufacturing (UNITE) | California, MO | 06/19/2001 | Light Winter Jackets.
39,607 | UniFirst Corp. (Comp) | Wilburton, OK | 06/18/2001 | Men's & Women's Jeans and Jackets.
39,608 | Advanced Flex, Inc. (Wrks) | Minnetonka, MN | 06/12/2001 | Printed Circuit Boards.
39,609 | Valeo Engine Cooling (IAMAW) | Jamestown, NY | 06/22/2001 | Engine Cooling Products.
39,610 | Avecia, Inc. (Wrks) | Mt. Pleasant, TN | 06/22/2001 | Research and Development of Chemicals.
39,611 | HR Textron Cadillac Gage (EIU) | Greenville, OH | 06/20/2001 | Hydraulic Pumps and Turret Systems.
39,612 | York Sportswear Co., Inc (Comp) | Hurtsboro, AL | 06/29/2001 | Insulated Outer Wear.
39,613 | Dutton Manufacturing (Comp) | Laconia, NH | 06/27/2001 | Women's Clothing.
39,614 | Trinity Industries (Wrks) | Paris, TN | 06/07/2001 | Interior/Exterior Rail Cars.

[FR Doc. 01-20548 Filed 8-14-01; 8:45 am]

BILLING CODE 4510-30-M